DEPARTMENT OF TRANSPORTATION

Federal Aviation Administration

14 CFR Part 39

[Docket No. FAA-2008-0844; Directorate Identifier 2007-SW-23-AD; Amendment 39-15635; AD 2008-16-17]

RIN 2120-AA64

Airworthiness Directives; PZL Swidnik S. A. Model W-3A Helicopters

AGENCY: Federal Aviation Administration (FAA), Department of Transportation (DOT).

ACTION: Final rule; request for comments.

SUMMARY: We are adopting a new airworthiness directive (AD) for the PZL Swidnik S. A. (PZL) Model W-3A helicopters. This AD results from mandatory continuing airworthiness information (MCAI) issued by the European Aviation Safety Agency (EASA), which is the Technical Agent for the Member States of the European Community. The MCAI states: “In PZL W-3A helicopter S/N 37.07.05, and previously also in the PZL W-3AS model helicopters, leakage was found in the pipe 37.59.006.00.00 installed in the pressure line of hydraulic system 2, in the part between the hydraulic block and the ground hydraulic unit panel. The hydraulic system in the part between hydraulic blocks and the ground hydraulic unit panel is used only during periodical inspections, for the performance of which it is required to use the hydraulic power unit. This condition, if not corrected, could result in a fire hazard.” The actions specified in this AD are intended to prevent this unsafe condition.

DATES: This AD becomes effective on September 2, 2008.

The Director of the Federal Register approved the incorporation by reference of “PZL-Świdnik” S.A. Mandatory Bulletin No. BO-37-07-192, dated January 12, 2007, and “PZL-Świdnik” Technical Bulletin No. BT-37-07-196, dated April 24, 2007, as of September 2, 2008.

We must receive comments on this AD by October 14, 2008.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from WSK “PZL-Świdnik” S.A., Al. Lotników Polskich 1, 21-045 Świdnik, Poland, telephone (+48 81) 468 09 01, 751 20 71, or fax (+48 81) 468 09 19, 751 21 73, e-mail: hem@pzl.swidnik.pl.

Examining the Docket: You may examine the AD docket on the Internet at http://www.regulations.gov or in person at the Docket Operations office between 9 a.m. and 5 p.m., Monday through Friday, except Federal holidays. The AD docket contains this AD, any comments received, and other information. The street address for the Docket Operations office (telephone (800) 647-5527) is stated in the ADDRESSES section of this AD. Comments will be available in the AD docket shortly after receipt.

FOR FURTHER INFORMATION CONTACT: Uday Garadi, Aerospace Engineer, Regulations and Policy Group, Rotorcraft Directorate, FAA, Fort Worth, Texas 76193-0110, telephone (817) 222-5123, fax (817) 222-5961.

SUPPLEMENTARY INFORMATION: The EASA, which is the Technical Agent for the Member States of the European Community, has issued EASA Emergency AD No. 2007-0072R1, dated July 6, 2007 (referred to after this as “the MCAI”), to correct an unsafe condition for the PZL Model W-3A helicopters. The MCAI states: “In PZL W-3A helicopter S/N 37.07.05, and previously also in the PZL W-3AS model helicopters, leakage was found in the pipe 37.59.006.00.00 installed in the pressure line of hydraulic system 2, in the part between the hydraulic block and the ground hydraulic unit panel. The hydraulic system in the part between hydraulic blocks and the ground hydraulic unit panel is used only during periodical inspections, for the performance of which it is required to use the hydraulic power unit. This condition, if not corrected, could result in a fire hazard.” You may obtain further information by examining the MCAI and any related service information in the AD docket.

Related Service Information

PZL has issued Mandatory Bulletin No. BO-37-07-192, dated January 12, 2007, and Technical Bulletin No. BT-37-07-196, dated April 24, 2007. The actions described in the MCAI are intended to correct the same unsafe condition as that identified in the service information.

FAA's Evaluation and Unsafe Condition Determination

This helicopter model has been approved by the aviation authority of Poland, and is approved for operation in the United States. Pursuant to our bilateral agreement with Poland, they have notified us of the unsafe condition described in the MCAI. We are issuing this AD because we evaluated all information and determined the unsafe condition exists and is likely to exist or develop on other helicopters of the same type design.

There are no products of this type currently registered in the United States. However, this rule is necessary to ensure that the described unsafe condition is addressed if any of these products are placed on the U.S. Registry in the future.

Differences Between This AD and the MCAI

We have reviewed the MCAI and related service information and, in general, agree with their substance. This AD differs from the MCAI in that it:

• Only applies to Model W-3A helicopters because the Model W-3AS helicopters do not have a U.S. type certificate; and

• Does not allow compliance to be completed in accordance with “later approved revisions” of the service information.

These differences are highlighted in the “Differences Between this AD and the MCAI” section in the AD.

Costs of Compliance

There are no costs of compliance since there are no helicopters of this type design on the U.S. Registry.

FAA's Determination of the Effective Date

Since there are currently no affected U.S. registered helicopters, we have determined that notice and opportunity for prior public comment before issuing this AD are unnecessary and that good cause exists for making this amendment effective in less than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2008-0844; Directorate Identifier 2007-SW-23-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-16-17 PZL Świdnik S. A.: Amendment 39-15635. Docket No. FAA-2008-0844; Directorate Identifier 2007-SW-23-AD.

Effective Date

(a) This airworthiness directive (AD) becomes effective on September 2, 2008.

Other Affected ADs

(b) None.

Applicability

(c) This AD applies to Model W-3A helicopters, all serial numbers, certificated in any category.

Reason

(d) The mandatory continuing airworthiness information (MCAI) states: “In PZL W-3A helicopter S/N 37.07.05, and previously also in the PZL W-3AS model helicopters, leakage was found in the pipe 37.59.006.00.00 installed in the pressure line of hydraulic system 2, in the part between the hydraulic block and the ground hydraulic unit panel. The hydraulic system in the part between hydraulic blocks and the ground hydraulic unit panel is used only during periodical inspections, for the performance of which it is required to use the hydraulic power unit. This condition, if not corrected, could result in a fire hazard.” The actions specified in this AD are intended to prevent this unsafe condition.

Actions and Compliance

(e) Within the next 10 hours time-in-service (TIS) or 3 months, whichever occurs first, modify hydraulic systems 1 and 2 between the hydraulic blocks and the hydraulic ground unit panel by disconnecting the pipes, part number (P/N) 37.59.233.00.00 and P/N 37.59.234.00.00, from the hydraulic blocks, plugging the blocks and disconnected pipes, and securing the pipes, as specified in section II, page 3, of PZL-Świdnik S. A. (PZL) Mandatory Bulletin No. BO-37-07-192, dated January 12, 2007.

(f) When the use of the hydraulic ground unit panel is necessary for maintenance, for the duration of the maintenance activity, you may temporarily remove the security tape and clips, unplug the pipes and blocks, and reconnect the pipes that were disconnected in accordance with paragraph (e) of this AD.

(g) At your discretion, modify both hydraulic systems by replacing pipes, P/N 37.59.233.00.00 and P/N 37.59.234.00.00, with pipes, P/N 37.59.333.00.00 and P/N 37.59.334.00.00, respectively, and install a check valve, P/N 37.59.336.00.00, in each hydraulic system in accordance with Section II, page 2, of PZL Technical Bulletin No. BT-37-07-196, dated April 24, 2007 (PZL TB).

Note: The PZL TB inconsistently refers to various P/Ns as either “pipes” or “hoses.” For consistency in the terminology in this AD, we refer to all these P/Ned “hoses” as “pipes.”

(h) Modifying both hydraulic systems by replacing the pipes and installing check valves as specified in paragraph (g) of this AD constitute terminating action for the requirements of this AD.

Differences Between This AD and the MCAI

(i) This AD differs from the MCAI in that it:

(1) Only applies to Model W-3A helicopters because the Model W-3AS helicopters do not have a U.S. type certificate; and

(2) Does not allow compliance to be completed in accordance with “later approved revisions” of the service information.

Other Information

(j) Alternative Methods of Compliance (AMOCs): The Manager, Safety Management Group, FAA, ATTN: Uday Garadi, Aerospace Engineer, Regulations and Policy Group, FAA, Rotorcraft Directorate, Fort Worth, Texas 76193-0110, telephone (817) 222-5123, fax (817) 222-5961, has the authority to approve AMOCs for this AD, if requested using the procedures found in 14 CFR 39.19.

Related Information

(k) MCAI European Aviation Safety Agency (EASA) Airworthiness Directive No. 2007-0072R1, dated July 6, 2007 contains related information.

Air Transport Association of America (ATA) Tracking Code

(l) ATA Code: 2910, Hydraulic System, Main.

(m) You must use the specified portions of PZL-Świdnik S. A. Mandatory Bulletin No. BO-37-07-192, dated January 12, 2007, and PZL-Świdnik S. A. Technical Bulletin No. BT-37-07-196, dated April 24, 2007 to do the actions required.

(1) The Director of the Federal Register approved the incorporation by reference of this service information under 5 U.S.C. 552(a) and 1 CFR part 51.

(2) For service information identified in this AD, contact WSK “PZL-Świdnik” S.A., Al. Lotników Polskich 1, 21-045 Świdnik, Poland, telephone (+48 81) 468 09 01, 751 20 71, or fax (+48 81) 468 09 19, 751 21 73, e-mail: hem@pzl.swidnik.pl.

(3) You may review copies at the FAA, Office of the Regional Counsel, Southwest Region, 2601 Meacham Blvd., Room 663, Fort Worth, Texas; or at the National Archives and Records Administration (NARA). For information on the availability of this material at NARA, call (202) 741-6030, or go to: http://www.archives.gov/federal-register/cfr/ibr-locations.html.

Issued in Fort Worth, Texas, on August 7, 2008.
Mark R. Schilling,
Acting Manager, Rotorcraft Directorate, Aircraft Certification Service.

[FR Doc. E8-18805 Filed 8-14-08; 8:45 am]

BILLING CODE 4910-13-P